ENVIRONMENTAL PROTECTION AGENCY

[EPA-HQ-OAR-2022-0022; FRL-10621-01-OMS]

Agency Information Collection Activities; Submission to the Office of Management and Budget for Review and Approval; Comment Request; State and Federal Emission Guidelines for Hospital/Medical/Infectious Waste Incinerators (Renewal)

AGENCY: Environmental Protection Agency (EPA).

ACTION: Notice.

SUMMARY: The Environmental Protection Agency (EPA) has submitted an information collection request (ICR), State and Federal Emission Guidelines for Hospital/Medical/Infectious Waste Incinerators (EPA ICR Number 1899.10, OMB Control Number 2060-0422), to the Office of Management and Budget (OMB) for review and approval in accordance with the Paperwork Reduction Act. This is a proposed extension of the ICR, which is currently approved through January 31, 2023. Public comments were previously requested, via the Federal Register, on July 22, 2022 during a 60-day comment period. This notice allows for an additional 30 days for public comments.

DATES: Comments may be submitted on or before March 1, 2023.

ADDRESSES: Submit your comments, referencing Docket ID Number EPA-HQ-OAR-2022-0022, to EPA online using https://www.regulations.gov/ (our preferred method), or by email to docket@epa.gov, or by mail to: EPA Docket Center, Environmental Protection Agency, Mail Code 28221T, 1200 Pennsylvania Ave. NW, Washington, DC 20460. EPA's policy is that all comments received will be included in the public docket without change, including any personal information provided, unless the comment includes profanity, threats, information claimed to be Confidential Business Information (CBI), or other information whose disclosure is restricted by statute.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through January 31, 2023. An agency may neither conduct nor sponsor, and a person is not required to respond to, a collection of information unless it displays a currently valid OMB control number.

Public comments were previously requested, via the Federal Register (87 FR 43843), on July 22, 2022 during a 60-day comment period. This notice allows for an additional 30 days for public comments. Supporting documents which explain in detail the information that the EPA will be collecting are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: The Emission Guidelines (EG) (40 CFR part 60, subpart Ce) for Hospital/Medical/Infectious Waste Incinerators were proposed on February 27, 1995; promulgated on September 15, 1997; and revised on both October 6, 2009 and April 4, 2011. The Federal Plan Requirements for these regulations (40 CFR part 62, subpart HHH) were proposed on July 6, 1999; promulgated on August 15, 2000; and revised on May 13, 2013. Subpart Ce requires either states or tribes to develop plans to implement the EG. If approvable state or tribal plans were not developed, the EPA was required to develop a Federal plan (Subpart HHH) to implement the Emission Guidelines for such states and tribes. The Federal plan is an interim measure to ensure that emissions standards are implemented until states assume their role as the preferred implementers of the EG. The 2013 rule finalized amendments to the HMIWI federal plan to implement the amended EG adopted on October 6, 2009, for those states that did not have an approved revised/new state plan in place within 2 years after promulgation of the EG. The regulations in 40 CFR part 60, subpart Ce and 40 CFR part 62, subpart HHH apply to each existing individual hospital/medical/infectious waste incinerator (HMIWI) that either commenced construction prior to December 2, 2008 or commenced modification prior to April 6, 2010. This information is being collected to assure compliance with 40 CFR part 60, subpart Ce and 40 CFR part 62, subpart HHH.

Form numbers: None.

Respondents/affected entities: Hospital/Medical/Infectious Waste Incinerators.

Respondent's obligation to respond: Mandatory (40 CFR part 60, subpart Ce and 40 CFR part 62, subpart HHH).

Estimated number of respondents: 28 existing respondents, consisting of 16 privately-owned, 1 Federally-owned, 1 State/locally owned HMIWI facilities, plus 10 States requiring State Plan Inventories (total).

Frequency of response: Semiannually and annually.

Total estimated burden: 19,200 hours (per year). Burden is defined at 5 CFR 1320.3(b).

Total estimated cost: $2,430,000 (per year), which includes $239,000 in annualized capital/startup and/or operation & maintenance costs.

Changes in the estimates: The decrease in burden from the most-recently approved ICR is due to a decrease in the number of sources due to a decline in the industry. This decrease is not due to any program changes. The number of sources has declined as HMIWI units have closed. Any new units that either commence construction after December 2, 2008 or commence modification after April 6, 2010 are subject to the new source performance standards at 40 CFR part 60, subpart Ec. The decrease in the operation and maintenance costs from the currently-approved ICR is also due to the decline in the number of HMIWI units. There are no changes to the capital costs because there are no new entities subject to 40 CFR part 60, subpart Ce or 40 CFR part 62, subpart HHH.

Courtney Kerwin,
Director, Regulatory Support Division.

[FR Doc. 2023-01760 Filed 1-27-23; 8:45 am]

BILLING CODE 6560-50-P